CORPORATION FOR NATIONAL AND COMMUNITY SERVICE

Agency Information Collection Activities; Submission to the Office of Management and Budget for Review and Approval; Comment Request; Application Package for Senior Corps Project Progress Report

AGENCY: Corporation for National and Community Service (CNCS).

ACTION: Notice of information collection; request for comments.

SUMMARY: In accordance with the Paperwork Reduction Act of 1995, CNCS is proposing to renew an information collection, Senior Corps Project Progress Report (PPR). CNCS and grantees use the Senior Corps PPR data track performance and inform continued grant funding support, as well as to identify trends and to support management and analysis.

DATES: Written comments must be submitted to the individual and office listed in the ADDRESSES section by September 16, 2019.

ADDRESSES: You may submit comments, identified by the title of the information collection activity, by any of the following methods:

(1) By mail sent to: Corporation for National and Community Service, Attention Jill Sears, 250 E Street SW, Washington, DC 20525.

(2) By hand delivery or by courier to the CNCS mailroom at the mail address given in paragraph (1) above, between 9:00 a.m. and 4:00 p.m. Eastern Time, Monday through Friday, except federal holidays.

(3) Electronically through www.regulations.gov.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Anne Otih, (202) 606-7570, or by email at aotih@cns.gov.

SUPPLEMENTARY INFORMATION:

Title of Collection: Senior Corps Project Progress Report.

OMB Control Number: 3045-0033. Type of Review: Renewal.

Respondents/Affected Public: Sponsors of Senior Corps grants.

Total Estimated Number of Annual Responses: 1,100.

Total Estimated Number of Annual Burden Hours: 17,600 (Work plans and narratives, semi-annual: Four hours per response. Progress Report Supplemental, annual: Eight hours per response).

Abstract: The Progress Report (PPR) was designed to ensure that grantees of the Senior Corps' programs (RSVP, Foster Grandparent and Senior Companion Programs) address and fulfill legislated program purposes; meet agency program management and grant requirements; track and measure progress to benefit the local project and its contributions to senior volunteers and the community; and to report progress toward work plan objectives agreed upon in the granting of the award. The resulting data is used by grantees and CNCS to track performance and inform continued grant funding support, as well as to identify trends and to support management and analysis. CNCS seeks to renew and revise the current OMB approved PPR to align with recent national performance measures changes and to remove administrative burdens.

CNCS also seeks to continue using the currently approved information collection until the revised information collection is approved by OMB. The currently approved information collection is due to expire on December 31, 2019.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Dated: July 15, 2019.
Deborah Cox-Roush,
Director, Senior Corps.

[FR Doc. 2019-15278 Filed 7-17-19; 8:45 am]

BILLING CODE 6050-28-P